DEPARTMENT OF HEALTH AND HUMAN SERVICES

Administration for Children and Families

Proposed Information Collection Activity; Head Start Connects: A Study of Family Support Services (OMB #0970-0538)

AGENCY: Office of Planning, Research, and Evaluation, Administration for Children and Families, HHS.

ACTION: Request for public comment.

SUMMARY: The Administration for Children and Families (ACF) at the U.S. Department of Health and Human Services seeks approval to collect information about how Head Start programs coordinate family support services. Information will be collected from Head Start staff members via surveys and focus groups.

DATES: Comments due within 60 days of publication. In compliance with the requirements of section 3506(c)(2)(A) of the Paperwork Reduction Act of 1995, ACF is soliciting public comment on the specific aspects of the information collection described above.

ADDRESSES: You can obtain copies of the proposed collection of information and submit comments by emailing OPREinfocollection@acf.hhs.gov. All requests should be identified by the title of the information collection.

SUPPLEMENTARY INFORMATION: Description: The purposes of the data collection for Head Start Connects are to build knowledge about how Head Start programs (Head Start or Early Head Start grantees, delegate agencies, and staff) coordinate family support services for parents/guardians; the characteristics of Head Start programs and staff members involved in family support services coordination; the job characteristics, work activities, and well-being of Head Start family support services staff members; and how Head Start programs can improve coordination of family support services. The data collection will build on information collected previously through case studies at six Head Start sites (OMB #0970-0538). Proposed data collection activities include three components. First, a brief web-based survey of a nationally representative sample of program directors will collect program information, including contact information for family and community partnerships managers and for family support services staff members needed for other data collection components. Second, an in-depth web-based survey of family and community partnerships managers identified by program directors will collect information about Head Start programs' structures and services for providing supports to parents and families; and the demographic characteristics, experiences, job characteristics, and well-being of managers who supervise family support services staff members. Third, three data collection activities (referred to as Parts A, B, and C) will gather information from family support services staff members. Part A, an in-depth web-based survey, will gather information about the structures and services that Head Start programs have for providing supports to parents and families; how family support services staff members reach out to and engage families in family support services; how family support services staff members work with families; and the demographic characteristics, experiences, job characteristics, and well-being of staff members who provide family support services. Part B, brief web-based surveys, will supplement Part A and will collect additional information about specific daily work activities and well-being, providing more fine-grained detail about workdays of family support services staff members. Part C, focus groups, will be conducted with a sample of family support services staff to collect information about innovations and ideas for improving how Head Start programs coordinate and individualize family support services.

Respondents: Head Start program directors, Head Start family and community partnerships managers, and Head Start family support services staff members.

Annual Burden Estimates
Instrument | Number of respondents (total over request period) | Number of responses per Respondent (total over request period) | Average burden per response (in hours) | Total/ annual burden (in hours)
Survey of Head Start directors | 470 | 1 | 0.5 | 235
Survey of Head Start family and community partnerships managers | 423 | 1 | 1 | 423
Survey of Head Start family support services staff members (Part A) | 1,692 | 1 | 1 | 1,692
Survey of Head Start family support services staff members (Part B) | 1,692 | 6 | 0.1 | 1,015
Focus groups of Head Start family support services staff members (Part C) | 60 | 1 | 1.25 | 75

Estimated Total Annual Burden Hours: 3,440.

Comments: The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 640(a)(2)(D) and section 649 of the Improving Head Start for School Readiness Act of 2007.

Mary B. Jones,
ACF/OPRE Certifying Officer.

[FR Doc. 2022-02378 Filed 2-3-22; 8:45 am]

BILLING CODE 4184-22-P